DEPARTMENT OF ENERGY

Energy Information Administration

Agency Information Collection Proposed Extension

AGENCY: U.S. Energy Information Administration (EIA), Department of Energy (DOE).

ACTION: Notice.

SUMMARY: EIA submitted an information collection request for the three-year extension, with changes, to the Petroleum Marketing Program (PMP) as required under the Paperwork Reduction Act of 1995. EIA's PMP collects volumetric and price information needed for determining the supply of and demand for crude oil and refined petroleum products.

DATES: Comments on this information collection must be received no later than December 20, 2024. Written comments and recommendations for the proposed information collection should be sent within 30 days of publication of this notice to www.reginfo.gov/public/do/PRAMain. Find this particular information collection by selecting “Currently under 30-day Review—Open for Public Comments” or by using the search function.

FOR FURTHER INFORMATION CONTACT: Kenneth Pick, EIA Clearance Officer, at (202) 586-5562. The forms and instructions are available at https://www.eia.gov/survey/.

SUPPLEMENTARY INFORMATION: This information collection request contains:

(1) OMB No.: 1905-0174;

(2) Information Collection Request Title: Petroleum Marketing Program;

(3) Type of Request: Three-year extension with changes;

(4) Purpose: The surveys included in the Petroleum Marketing Program collect volume and price information needed for determining the supply of and demand for crude oil and refined petroleum products. These surveys provide a basic set of data pertaining to the structure, efficiency, and behavior of petroleum markets. These data are published by EIA on its website, at https://www.eia.gov. The Petroleum Marketing Program consists of the following surveys: Form EIA-14 Refiners' Monthly Cost Report; Form EIA-182 Domestic Crude Oil First Purchase Report; Form EIA-856 Monthly Foreign Crude Oil Acquisition Report; Form EIA-877 Winter Heating Fuels Telephone Survey; Form EIA-878 Motor Gasoline Price Survey; Form EIA-888 On-Highway Diesel Fuel Price Survey;

(4a) Proposed Changes to Information Collection:

Form EIA-888, On-Highway Diesel Fuel Price Survey (Potential Change to Data Collection Form and Instructions)

EIA proposes modifying Form EIA-888, On-Highway Diesel Fuel Price Survey, to include a checkbox allowing stations to indicate that they do not sell diesel fuel. This designation will make it easier to identify stations that are no longer in scope for the survey but are still in operation.

(4b) Proposed Survey Discontinuations:

EIA is requesting the discontinuation and removal of the following four surveys from the Petroleum Marketing Program:

Form EIA-863, Petroleum Product Sales Identification Survey

The EIA-863, Petroleum Product Sales Identification Survey, has been suspended since 2011, with the last completed survey cycle occurring for 2006 data. Surveys previously reliant on these data for sample design have implemented new sampling methodologies, which no longer require these data. EIA proposes formally discontinuing this survey.

Form EIA-782A, Refiners'/Gas Plant Operators' Monthly Petroleum Product Sales Report, Form EIA-782C, Monthly Report of Prime Supplier Sales of Petroleum Products Sold for Local Consumption, and Form EIA-821, Annual Fuel Oil and Kerosene Sales Report

To concentrate limited EIA and respondent resources on more timely products, EIA proposes eliminating the EIA-782A, Refiners'/Gas Plant Operators' Monthly Petroleum Product Sales Report, the EIA-782C, Monthly Report of Prime Supplier Sales of Petroleum Products Sold for Local Consumption, and the EIA-821, Annual Fuel Oil and Kerosene Sales Report, surveys. EIA remains committed to balancing the costs associated with collecting data (for both respondents and taxpayers) with the benefits of providing a more complete data set. The U.S. energy industry is dynamic, and our surveys and publications have and will continue to evolve to provide the best value to the American people in support of efficient energy markets. We continue to explore opportunities to incorporate similar data from other sources.

(5) Annual Estimated Number of Respondents: 5,241;

(6) Annual Estimated Number of Total Responses: 199,792;

(7) Annual Estimated Number of Burden Hours: 28,557;

(8) Annual Estimated Reporting and Recordkeeping Cost Burden: $ 2,603,256 (28,557 annual burden hours multiplied by $91.16 per hour), a reduction from $ 5,147,216 (63,040 annual burden hours multiplied by $81.65 per hour) in 2021. EIA estimates that respondents will have no additional costs associated with the surveys other than the burden hours and the maintenance of the information during the normal course of business.

Statutory Authority: 15 U.S.C. 772(b) and 42 U.S.C. 7101 et seq.

Signed in Washington, DC, on November 14, 2024.
Samson A. Adeshiyan,
Director, Office of Statistical Methods and Research, U.S. Energy Information Administration.

[FR Doc. 2024-27071 Filed 11-19-24; 8:45 am]

BILLING CODE 6450-01-P